DEPARTMENT OF AGRICULTURE

Grain Inspection, Packers and Stockyards Administration

[03-01-SB]

Designation for the Minnesota Area

AGENCY: Grain Inspection, Packers and Stockyards Administration, USDA.

ACTION: Notice.

SUMMARY: Grain Inspection, Packers and Stockyards Administration (GIPSA) announces designation of the Minnesota Department of Agriculture (Minnesota) to provide official services under the United States Grain Standards Act, as amended (Act).

EFFECTIVE DATE: October 1, 2003.

ADDRESSES: USDA, GIPSA, Janet M. Hart, Chief, Review Branch, Compliance Division, STOP 3604, Room 1647-S, 1400 Independence Avenue, SW., Washington, DC 20250-3604.

FOR FURTHER INFORMATION CONTACT: Janet M. Hart at 202-720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

In the March 3, 2003, Federal Register (68 FR 9971), GIPSA asked persons interested in providing official services in the geographic areas assigned to Minnesota to submit an application for designation. Applications were due by April 1, 2003.

There were six applicants for the Minnesota area: Minnesota, North Dakota Grain Inspection Service, Inc. (North Dakota), D. R. Schaal Agency, Inc. (Schaal), and Sioux City Inspection and Weighing Service Company (Sioux City), all currently designated official agencies; Paul B. Bethke, Terry D. Pladson, and Ryan M. Kuhl proposing to do business as Northern Plains Grain Inspection Service, Inc. (Northern Plains), and Kathleen Duea, Kyle Duea, Ben Duea, and Nicole Youel proposing to do business as Southern Minnesota Grain Inspection (Southern Minnesota). Minnesota applied for designation to provide official services in the entire area currently assigned to them. North Dakota and Northern Plains applied for all or part of the area currently assigned to Minnesota. Schaal made application but subsequently withdrew their application. Sioux City applied for all or part of the following Minnesota Counties: Brown, Cottonwood, Jackson, Lincoln, Lyon, Martin, Murray, Nobles, Pipestone, Redwood, Renville, Rock, Watonwan, and Yellow Medicine. Southern Minnesota Grain Inspection applied for all or part of the area currently assigned to Minnesota, and specified all or part of the following Minnesota Counties: Blue Earth, Cottonwood, Faribault, Jackson, Martin, Murray, Nobles, and Watonwan.

GIPSA asked for comments on the applicants for providing service in the Minnesota area in the May 1, 2003, Federal Register (68 FR 23279). Comments were due by May 1, 2003. GIPSA received 203 comments by the due date. Minnesota received four favorable comments, one from current Minnesota employees, one from an elevator manager, and two from managers representing grain elevator trade groups; and one unfavorable comment from a member of the Minnesota House of Representatives. North Dakota received five favorable comments from elevator managers. Northern Plains received 12 favorable comments and one unfavorable comment from grain elevator managers. Southern Minnesota received a total of 180 favorable comments, seven from grain elevator managers, two from current employees, one from a Minnesota State Senator, one from a Montana grain elevator trade association, one from a banker, one from an accounting firm, one from a crop insurance company, one from a railroad manager, and 165 from members of a grain coop. Sioux City received no comments.

GIPSA evaluated all available information regarding the designation criteria in Section 7(f)(l)(A) of the Act and, according to Section 7(f)(l)(B), determined that, effective October 1, 2003, and ending March 31, 2005, Minnesota is better able to provide official services in the geographic area specified in the March 3, 2003, Federal Register for which they applied.

Minnesota is designated for 18 months to provide official services in the geographic area for which they applied. Interested persons may obtain official services by calling Minnesota at 612-297-2200.

During the upcoming designation period GIPSA plans to announce a pilot program in Minnesota, which would allow multiple official agencies to provide official inspection and weighing services within the State of Minnesota.

Authority: Pub. L. 94-582, 90 Stat. 2867, as amended (7 U.S.C. 71 et seq.).

Donna Reifschneider,
Administrator, Grain Inspection, Packers and Stockyards Administration.

[FR Doc. 03-22304 Filed 8-29-03; 8:45 am]

BILLING CODE 3410-EN-P